DEPARTMENT OF AGRICULTURE

Animal and Plant Health Inspection Service

[Docket No. APHIS-2024-0053]

Notice of Request for Approval of an Information Collection; A Survey of Livestock Producer Perceptions of Predators and Predator Damage Management Methods

AGENCY: Animal and Plant Health Inspection Service, USDA.

ACTION: New information collection; comment request.

SUMMARY: In accordance with the Paperwork Reduction Act of 1995, this notice announces the Animal and Plant Health Inspection Service's intention to request approval of a new information collection associated with a study to understand livestock producers' perceptions of predator damage management methods and their willingness to continue using such methods.

DATES: We will consider all comments that we receive on or before December 20, 2024.

ADDRESSES: You may submit comments by either of the following methods:

• Federal eRulemaking Portal: Go to www.regulations.gov. Enter APHIS-2024-0053 in the Search field. Select the Documents tab, then select the Comment button in the list of documents.

• Postal Mail/Commercial Delivery: Send your comment to Docket No. APHIS-2024-0053, Regulatory Analysis and Development, PPD, APHIS, Station 2C-10.16, 4700 River Road, Unit 25, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on this predator damage management study, contact Dr. Megan Cross, Social Scientist, National Wildlife Research Center, WS, APHIS, 4101 La Porte Ave., Fort Collins, CO 80521; (970) 266-6366; email: Megan.Cross@usda.gov. For more information on the information collection process, contact Mr. Joseph Moxey, APHIS' Paperwork Reduction Act Coordinator; (301) 851-2533; email: joseph.moxey@usda.gov.

SUPPLEMENTARY INFORMATION:

Title: A Survey of Livestock Producer Perceptions of Predators and Predator Damage Management Methods.

OMB Control Number: 0579-XXXX.

Type of Request: Approval of a new information collection.

Abstract: Under the Act of March 2, 1931 (7 U.S.C. 8351), the Secretary of Agriculture is authorized to conduct a program of wildlife services with respect to injurious animal species and take any action the Secretary considers necessary in conducting the program. Additionally, the Secretary of Agriculture is authorized to conduct activities to control nuisance mammals and birds (except for urban rodent control) and those mammals and bird species that are reservoirs for zoonotic disease. This authority has been delegated to the Animal and Plant Health Inspection Service (APHIS) Wildlife Services (WS). Two responsibilities of the Deputy Administrator of Wildlife Services are to assist Federal, State, local, and foreign agencies and individuals regarding wildlife damage and control and conduct research to develop wildlife damage management methods (7 CFR 371.6).

Depredation of livestock by large predators, such as wolves, bears, and mountain lions, is a significant source of human-wildlife conflict and economic losses in the United States. Protecting livestock from predators is a complex and challenging endeavor, with each situation requiring an evaluation of relevant legal, social, economic, biological, and technical aspects. While no single management technique is appropriate in every situation, various stakeholder groups are increasingly calling for the use of nonlethal predator damage management techniques. Congress has appropriated funding to Wildlife Services since 2020 to support the use of nonlethal predator damage management methods. Wildlife Services is using the money to test several nonlethal predator damage management methods on livestock operations in 12 States (Arizona, California, Colorado, Idaho, Michigan, Minnesota, Montana, New Mexico, Oregon, Washington, Wisconsin, and Wyoming).

Through the APHIS WS National Wildlife Research Center, a Federal institution devoted to resolving human-wildlife conflict, APHIS would like to conduct a survey of livestock producers who: (1) Experienced livestock loss from predators; (2) worked with Wildlife Services to try and mitigate losses; and (3) allowed WS State Directors to share their contact information within APHIS. The information collected from these livestock producers is critical to improving WS Nonlethal Initiative programs, identifying any barriers to the continued use of nonlethal predator damage management methods, and determining whether livestock producers' attitudes towards predators and nonlethal predator damage management have changed. APHIS anticipates that, among other things, results of the study may inform whether nonlethal predator damage management methods are a viable and acceptable alternative to the use of methods that result in the death of large predators from the perspective of livestock producers.

The information collection activity associated with this study consists of a multi-item questionnaire administered to livestock producers who have received predator damage management services from WS Nonlethal Initiative programs and are located in one of the 12 States (Arizona, California, Colorado, Idaho, Michigan, Minnesota, Montana, New Mexico, Oregon, Washington, Wisconsin, or Wyoming).

We are asking the Office of Management and Budget (OMB) to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.164 hours per response.

Respondents: Livestock producers who have received predator damage management services from WS Nonlethal Initiative programs and are located in one of the 12 States (Arizona, California, Colorado, Idaho, Michigan, Minnesota, Montana, New Mexico, Oregon, Washington, Wisconsin, or Wyoming).

Estimated annual number of respondents: 200.

Estimated annual number of responses per respondent: 8.

Estimated annual number of responses: 1,608.

Estimated total annual burden on respondents: 265 hours. (Due to averaging, the total annual burden hours may not equal the product of the annual number of responses multiplied by the reporting burden per response.)

All responses to this notice will be summarized and included in the request for OMB approval. All comments will also become a matter of public record.

Done in Washington, DC, this 15th day of October 2024.
Michael Watson,
Administrator, Animal and Plant Health Inspection Service.

[FR Doc. 2024-24215 Filed 10-18-24; 8:45 am]

BILLING CODE 3410-34-P